ENVIRONMENTAL PROTECTION AGENCY

40 CFR Part 271

[EPA-R05-RCRA-2020-0275; FRL-10011-96-Region 5]

Illinois: Proposed Authorization of State Hazardous Waste Management Program Revision

AGENCY: Environmental Protection Agency (EPA).

ACTION: Proposed rule.

SUMMARY: Illinois has applied to the Environmental Protection Agency (EPA) for final authorization of changes to its hazardous waste program under the Resource Conservation and Recovery Act (RCRA), as amended. EPA has reviewed Illinois' application and has determined that these changes satisfy all requirements needed to qualify for final authorization. Therefore, we are proposing to authorize the State's changes. EPA seeks public comment prior to taking final action.

DATES: Comments on this proposed rule must be received by September 14, 2020.

ADDRESSES: Submit your comments by one of the following methods:

• Federal eRulemaking Portal: https://www.regulations.gov. Follow the online instructions for submitting comments.

• Email: greenberg.judith@epa.gov.

EPA must receive your comments by September 14, 2020. Direct your comments to Docket ID Number EPA-R05-RCRA-2020-0275. EPA's policy is that all comments received will be included in the public docket without change and may be made available online at www.regulations.gov, including any personal information provided, unless the comment includes information claimed to be Confidential Business Information (CBI), or other information whose disclosure is restricted by statute. Do not submit information that you consider to be CBI or otherwise protected through www.regulations.gov, or email. The federal www.regulations.gov website is an “anonymous access” system, which means EPA will not know your identity or contact information unless you provide it in the body of your comment. If you send an email comment directly to EPA without going through www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional submission methods, the full EPA public comment policy, information about CBI or multi-media submissions, and general guidance on making effective comments, please visit http://www2.epa.gov/dockets/commenting-epa-dockets.

Docket: All documents in the docket are listed in the www.regulations.gov, index. Although listed in the index, some information is not publicly available, e.g., CBI or other information whose disclosure is restricted by statute. Certain other material, such as copyrighted material, will be publicly available only in hard copy. Publicly available docket materials are available electronically in www.regulations.gov. For alternative access to docket materials, please contact the person identified in the FOR FURTHER INFORMATION CONTACT section.

FOR FURTHER INFORMATION CONTACT: Judith Greenberg, RCRA C and D Section, Land, Chemicals and Redevelopment Division, LL-17J, U.S. Environmental Protection Agency, 77 West Jackson Boulevard, Chicago, Illinois 60604; telephone number: (312) 886-4179, email address: greenberg.judith@epa.gov. The EPA Region 5 office is open from 9:00 a.m. to 4:00 p.m., Monday through Friday, excluding federal holidays and facility closures due to COVID-19.

SUPPLEMENTARY INFORMATION:

A. Why are revisions to state programs necessary?

States that have received final authorization from EPA under RCRA Section 3006(b), 42 U.S.C. 6926(b), must maintain a hazardous waste program that is equivalent to, consistent with, and no less stringent than the federal program. As the federal program changes, states must change their programs and request EPA to authorize the changes. Changes to state programs may be necessary when federal or state statutory or regulatory authority is modified or when certain other changes occur. Most commonly, states must change their programs because of changes to EPA's regulations in 40 Code of Federal Regulations (CFR) parts 124, 260 through 266, 268, 270, 273 and 279.

New federal requirements and prohibitions imposed by federal regulations that EPA promulgated pursuant to the Hazardous and Solid Waste Amendments of 1984 (HSWA) take effect in authorized states at the same time they take effect in unauthorized states. Thus, EPA will implement those requirements and prohibitions in Illinois, including the issuance of new permits implementing those requirements, until the State is granted authorization to do so.

B. What decisions have we made in this rule?

On August 7, 2019, Illinois submitted a complete program revision application seeking authorization of changes to its hazardous waste program that correspond to certain federal rules promulgated between July 20, 1993 and January 13, 2015. EPA concludes that Illinois' application to revise its authorized program meets all the statutory and regulatory requirements established under RCRA, as set forth in RCRA section 3006(b), 42 U.S.C. 6926(b), and 40 CFR part 271. Therefore, EPA proposes to grant Illinois final authorization to operate its hazardous waste program with the changes described in the authorization application, and as outlined below in Section G of this document.

Illinois has responsibility for permitting treatment, storage, and disposal facilities within its borders and for carrying out the aspects of the RCRA program described in its revised program application, subject to the limitations of HSWA, as discussed above.

C. What will be the effect if Illinois is authorized for these changes?

If Illinois is authorized for the changes described in Illinois' authorization application, these changes will become a part of the authorized state hazardous waste program and will therefore be federally enforceable. Illinois will continue to have primary enforcement authority and responsibility for its state hazardous waste program. EPA would maintain its authorities under RCRA sections 3007, 3008, 3013, and 7003, including its authority to:

• Conduct inspections, and require monitoring, tests, analyses, and reports;

• Enforce RCRA requirements, including authorized state program requirements, and suspend or revoke permits; and

• Take enforcement actions regardless of whether the State has taken its own actions.

This action will not impose additional requirements on the regulated community because the regulations for which EPA is proposing to authorize Illinois are already effective under state law and are not changed by today's proposed action.

D. What happens if EPA receives adverse comments on this action?

If EPA receives comments on this proposed action, we will address all such comments in a later final rule. You may not have another opportunity to comment. If you want to comment on this authorization, you should do so at this time.

E. What has Illinois previously been authorized for?

Illinois initially received Final Authorization on October 16, 1986, effective October 30, 1986 (51 FR 36804), to implement the RCRA hazardous waste management program. EPA granted authorization for changes to Illinois' program on the following dates: March 5, 1988 (53 FR 126, January 5, 1988); April 30, 1990 (55 FR 7320, March 1, 1990); June 3, 1991 (56 FR 13595, April 3, 1991); August 15, 1994 (59 FR 30525, June 14, 1994); May 14, 1996, (61 FR 10684, March 15, 1996); October 4, 1996 (61 FR 40520, August 5, 1996); and on March 10, 2017 (82 FR 13256, March 10, 2017).

F. What changes are we proposing with today's action?

On August 22, 2019, Illinois submitted a final complete program revision application, seeking authorization of changes to its hazardous waste management program in accordance with 40 CFR 271.21. EPA proposes to determine, subject to receipt of written comments that oppose this action, that Illinois' hazardous waste program revisions are equivalent to, consistent with, and no less stringent than the federal program, and therefore satisfy all the requirements necessary to qualify for final authorization. Therefore, EPA is proposing to authorize Illinois for the following program changes:

Table 1—Illinois' Analogs to the Federal Requirements
Rule checklist | Description of federal requirement | Federal Register and date | Analogous state authority: Subtitle G: Waste Disposal, 35 Ill. Adm. Code (IAC)
125 | Requirements for Preparation, Adoption, and Submittal of Implementation Plans | 58 FR 38816, July 20, 1993 | 720.111, 726.204, 726.206, 726 Appendix J (repealed).
126, 126.1 | Testing and Monitoring Activities | 58 FR 46040, August 31, 1993, as amended September 19, 1994 at 59 FR 47980 | 702.104, 703.205, 703.223, 703.232, 720.111, 721.122, 721.124, 721 Appendices B and C, 721 Appendix J (repealed), 724.290, 724.414, 728.107, 728.140, 728 Appendices A and I.
127 | Burning of Hazardous Waste in Boilers and Industrial Furnaces | 58 FR 59598, November 9, 1993 | 726.212, 726 Appendix L.
128 | Hazardous Waste Management System; Identification and Listing of Hazardous Waste; Wastes from Wood Surface Protection | 59 FR 00458, January 4, 1994 | 720.111, 721 Appendix H.
129 | Hazardous Waste Management System; Identification and Listing of Hazardous Waste; Treatability Studies Sample Exclusion | 59 FR 08362, February 18, 1994 | 721.104.
130 | Hazardous Waste Identification and Listing of Hazardous Waste; Recycled Used Oil Management Standards | 59 FR 10550, March 4, 1994 | 739.100, 739.110, 739.120, 739.141, 739.144, 739.146, 739.153, 739.163.
131 | Recordkeeping Instructions | 59 FR 13891, March 24, 1994 | 724 Appendix A, 725 Appendix A.
132 | Hazardous Waste Management System; Identification and Listing of Hazardous Waste; Wastes from Wood Surface Protection; Correction | 59 FR 28484, June 2, 1994 | 720.111.
133 | Standards Applicable to Owners and Operators of Hazardous Waste Treatment, Storage, and Disposal Facilities, Underground Storage Tanks, and Underground Injection Control Systems; Financial Assurance; Letter of Credit | 59 FR 29958, June 10, 1994 | 724.251.
134 | Hazardous Waste Management System; Correction of Listing of P015—Beryllium Powder | 59 FR 31551, June 20, 1994 | 721.133, 721 Appendix G, 728.142.
135 | Identification and Listing of Hazardous Waste; Amendments to Definition of Solid Waste | 59 FR 38536, July 28, 1994 | 721.103, 721.104, 721.106, 726.200.
136 | Standards for the Management of Specific Hazardous Wastes; Amendment to Subpart C—Recyclable Materials Used in a Manner Constituting Disposal; Final Rule | 59 FR 43496, August 24, 1994 | 726.120, 728.141.
137, 137.1 | Land Disposal Restrictions Phase II—Universal Treatment Standards, and Treatment Standards for Organic Toxicity Characteristic Wastes and Newly Listed Waste | 59 FR 47982. September 19, 1994, as amended January 3, 1995, at 60 FR 242 | 720.130, 720.131, 720.132, 720.133, 721.102, 724.101, 725.101, 726.123, 726.200, 726 Appendix M, 728.101, 728.102, 728.107, 728.109, 728.138, 728.140, 728.141, 728.142, 728.143, 728.145, 728.146, 728.148, 728 Appendix D.
139 | Hazardous Waste Management System; Testing and Monitoring Activities—Amendment 1 | 60 FR 03089, January 3, 1995 | 720.111.
140, 140.1, 140.2 | Hazardous Waste Management System; Carbamate Production Identification and Listing of Hazardous Waste; and CERCLA Hazardous Substance Designation and Reportable Quantities | 60 FR 07824, February 9, 1995, as amended April 17, 1995 at 60 FR 19165; and May 12, 1995, at 60 FR 25619 | 721.103, 721.132, 721.133, 721 Appendices G and H.
141 | Hazardous Waste Management System; Testing and Monitoring Activities—Amendment 2 | 60 FR 17001, April 4, 1995 | 721.111.
144 | Solid Waste, Hazardous Waste, Oil Discharge, and Superfund Programs; Removal of Legally Obsolete Rules | 60 FR 33912, June 29, 1995 | 702.110, 702.120, 721.131, 726.203, 726.204.
145 | Hazardous Waste Management: Liquids in Landfills | 60 FR 35703, July 11, 1995 | 724.414, 725.414.
151, 151.1, 151.2, 151.3, 151.4, 151.5, 151.6 | Land Disposal Restrictions Phase III—Decharacterized Wastewaters, Carbamate Wastes, and Spent Potliners | 61 FR 15566, April 8, 1996; as amended April 8, 1996, at 61 FR 15660; April 30, 1996 at 61 FR 19117; June 28, 1996, at 61 FR 33680; July 10, 1996, at 61 FR 36419; August 26, 1996, at 61 FR 43924; and February 19, 1997, at 62 FR 7502 | 728.101, 728.102, 728.103, 728.107, 728.108 (repealed). 728.109, 728.139, 728.140, 728.142, 728.144, 728.148, 728 Appendix K.
153 | Criteria for Classification of Solid Waste Disposal Facilities and Practices; Identification and Listing of Hazardous Waste; Requirements for Authorization of State Hazardous Waste Programs | 61 FR 34252, July 1, 1996 | 722.114.
156 | Military Munitions Rule: Hazardous Waste Identification and Management; Explosives Emergencies; Manifest Exemption for Transport of Hazardous Waste on Right-of-Ways on Contiguous Properties | 62 FR 06622, February 12, 1997 | 703.121, 703.280, 720.110, 721.102, 722,110, 722.120, 723.110, 724.101, 724.170, 724.1200, 724.1201, 724.1202, 725.101, 725.170, 725.1200, 725.1202, 726.300, 726.301, 726.302, 726.303, 726.304, 726.305, 726.306.
159 | Hazardous Waste Management System; Carbamate Production, Identification and Listing of Hazardous Waste; Land Disposal Restrictions | 62 FR 32974, June 17, 1997 | 721.132, 721.133, 721 Appendices G and H, 728.139, 728.140.
161 | Second Emergency Revision of the Land Disposal Restrictions (LDR) Treatment Standards for Listed Hazardous Wastes from Carbamate Production | 62 FR 45568, August 28, 1998 | 728.140, 728.148.
166, 166.1 | Recycled Used Oil Management Standards; Technical Correction and Clarification | 63 FR 24963, May 6, 1998, as amended July 14, 1998, at 63 FR 37780 | 721.106, 722.113, 739.110, 739.122, 739.145, 739.154, 739.164, 739.174.
167A | Land Disposal Restrictions Phase IV—Treatment Standards for Metal Wastes and Mineral Processing Wastes | 63 FR 28556, May 26, 1998 | 728.102, 728.103, 728.134, 728.140, 728.148.
167B | Land Disposal Restrictions Phase IV—Hazardous Soils Treatment Standards and Exclusions | 63 FR 28556, May 26, 1998 | 728.102, 728.107, 728.144, 728.149.
167C, 167C.1 | Land Disposal Restrictions Phase IV—Corrections | 63 FR 28556, May 26, 1998 | 728.104, 728.107, 728.140, 728.142, 728.145, 728.148, 728 Appendices G and H.
167D | Mineral Processing Secondary Materials Exclusion | 63 FR 28556, May 26, 1998 | 721.102, 721.104.
167E | Bevill Exclusion Revisions and Clarification | 63 FR 28556, May 26, 1998 | 721.103, 721.104.
167F | Exclusion of Recycled Wood Preserving Wastewaters | 63 FR 28556, May 26, 1998 | 721.104.
169 | Petroleum Refining Process | 63 FR 42110, August 6, 1998 | 721.103, 721.104, 721.106, 721.131, 721.132, 721 Appendix G, 726.200, 728.135, 728.140.
170 | Land Disposal Restrictions—Phase IV | 63 FR 46332, August 31, 1998 | 728.140.
171 | Emergency Provisions of the Land Disposal Restrictions (LDR) Treatment Standards for Listed Hazardous Wastes from Carbamate Production | 63 FR 47409, September 4, 1998 | 728.140, 728.148.
174 | Standards Applicable to Owners and Operators of Closed/Closing Facilities | 63 FR 56710, October 22, 1998 | 703.121, 703.161, 703.182, 703.214, 724.190, 724.210, 724.212, 724.218, 724.240, 725.190, 725.210, 725.212, 725.218, 725.221, 725.240.
175 | Hazardous Remediation Waste Management Requirements (HWIR-Media) | 63 FR 65874, November 30, 1998 | 702.110, 702.126, 703.157, 703.234, 703.300, 703.301, 703.302, 703.303, 703.304, 703.305, 703.306, 703 Appendix A, 720.110, 721.104, 724.101, 724.173, 724.201, 724.652, 724.653, 724.654, 725.101, 728.102, 728.150.
178 | Petroleum Refining Process Wastes | 64 FR 06806, February 11, 1999 | 721.104.
179 | Land Disposal Restrictions Phase IV—Technical Corrections and Clarifications to Treatment Standards | 64 FR 25408, May 11, 1999 | 721.102, 721.104, 722.134, 728.102, 728.107, 728.109, 728.140, 728.148, 728.149.
183 | Land Disposal Restrictions Phase IV—Technical Corrections | 64 FR 56469, October 20, 1999 | 721.132, 722.134. 728.107, 728.140, 728.149.
187 | Organobromine Production Waste and Petroleum Refining Process Waste: Technical Correction | 65 FR 36365, June 8, 2000 | 721.131, 728 Appendix G.
192A | Mixture and Derived-From Rules Revisions | 66 FR 27266, May 16, 2001 | 721.103.
192B | Land Disposal Restrictions Correction | 66 FR 27266, May 16, 2001 | 728 Appendix G.
194 | Correction to the Hazardous Waste Identification Rule (HWIR): Revisions to the Mixture and Derived-From Rules | 66 FR 50332, October 3, 2001 | 721.103.
195, 195.1 | Inorganic Chemical Manufacturing Wastes Identification and Listing | 66 FR 58258, November 20, 2001, as amended April 9, 2002, at 67 FR 17119 | 721.104, 721.132, 721 Appendix G, 728.136, 728.140.
196 | CAMU Amendments | 67 FR 02962, January 22, 2002 | 720.110, 724.650, 724.651, 724.652.
199 | Vacatur of Mineral Processing Spent Materials Being Reclaimed as Solid Wastes and TCLP Use with MGP Waste | 67 FR 11251, March 13, 2002 | 721.102, 721.104, 721.124.
206, 206.1 | Non-wastewaters from Dyes and Pigments | 70 FR 09138, February 24, 2005, as amended June 13, 2005, at 70 FR 35032 | 721.104, 721.132, 721 Appendices G and H, 728.120, 728.140, 728.148.
214 | CFR Corrections Rule I | 71 FR 40254, July 14, 2006 | 702.101, 702.110, 702.122, 702.123, 702.124, 702.126, 702.163, 703.153, 703.180, 703.181, 703.184, 703.186, 703.203, 703.204, 703.206, 703.212, 703.273, 703 Appendix A, 720.110, 720.122, 720.140, 720.141, 721.102, 721.103, 721.104, 721.106, 721.121, 721.124, 721.131, 721.132, 721.133, 721.138, 721 Appendices G and H, 722.134, 722.153, 722.156, 722.170, 722.181, 722.182, 722.183, 722.184, 722.187, 724.101, 724.113, 724.117, 724.118, 724.197, 724.198, 724.199, 724.201, 724.211, 724.212, 724.215, 724.216, 724.218, 724.219, 724.240, 724.242, 724.243, 724.245, 724.247, 724.251, 724.275, 724.293, 724.321, 724.323, 724.326, 724.351, 724.352, 724.359, 724.380, 724.383, 724.401, 724.402, 724.404, 724.414, 724.417, 724.444, 724.652, 724.653, 724.654, 724.655, 724.673, 724.700, 724.701, 724.930, 724.933, 724.934, 724.935, 724.950, 724.958, 724.964, 724.980, 724.990, 724.1101, 724.1102, 724 Appendix A, 725.101, 725.112, 725.114, 725.116, 725.119, 725.156, 725.190, 725.211, 725.212, 725.213, 725.217, 725.219, 725.240, 724.242, 725.245, 725.247, 725.274, 725.293, 725.294, 725.297, 725.301, 725.321, 725.324, 725.328, 725.329, 725.355, 725.359, 725.380, 725.381, 725.401, 725.402, 725.403, 725.412, 725.414, 725.416, 725.505, 725.541, 725.543, 725.545, 725.933, 725.935, 725.963, 725.980, 725.985, 725.987, 725.990, 725.1100, 725.1101, 725 Appendices A, E, and F, 726.106, 726.170, 726.180, 726.200, 726.202, 726.203, 726.209, 726 Appendices C, D, E, F, H, I, and M, 727.240, 728.102, 728.104, 728.106, 728.107, 728.114, 728.140, 728.142, 728.144, 728.145, 728.149, 728.150, 728 Appendix H, 733.109, 733.113, 733.114, 733.134, 739.101, 739.110, 739.111, 739.143, 739.144, 739.145, 739.152, 739.155, 739.156, 739.157, 739.159, 739.163, 739.164, 739.170.
220 | Academic Laboratories Generator Standards, Alternative for Hazardous Determination and Accumulation | 73 FR 72912, December 1, 2008 | 722.110, 722.113, 722.300, 722.301, 722.302, 722.303, 722.304, 722.305, 722.306, 722.307, 722.308, 722.309, 722.310, 722.311, 722.312, 722.313, 722.314, 722.315, 722.316.
226 | Technical Corrections to the Generator Standards for Academic Laboratories | 75 FR 79304, December 20, 2010 | 722.300, 722.306, 722.314, 726.312.
233A | Revisions to the Definition of Solid Waste | 80 FR 1694, January 13, 2015 | 720.131, 720.133, 720.142.
233B | Revisions to the Definition of Solid Waste | 80 FR 1694, January 13, 2015 | 720.110, 720.143, 721.102.
233C | Revisions to the Definition of Solid Waste | 80 FR 1694, January 13, 2015 | 721.101.
233D1 | Revisions to the Definition of Solid Waste | 80 FR 1694, January 13, 2015 | 720.110, 720.130, 720.131, 720.134, 721.101, 721.102, 721.104, 721.500, 721.510, 721.511, 721.520.
233E | Revisions to the Definition of Solid Waste | 80 FR 1694, January 13, 2015 | 720.110, 721.102, 721.104, 721.270, 721.271, 721.272, 721.273, 721.275, 721.276, 721.277, 721.279, 721.290, 721.291, 721.293, 721.294, 721.296, 721.297, 721.298, 721.299, 721.300, 721.930, 721.931, 721.933, 721.950, 721.951, 721.980, 721.981, 721.982, 721.983, 721.986, 721.989.

Illinois' application included a statement signed by the Attorney General's office on February 15, 2019, that certified, among other things, that the provisions for which the State is seeking authorization are contained in statutes and regulations lawfully adopted and which were in effect at the time the statement was signed.

G. Where are the revised state rules different from the federal rules?

When revised state rules differ from the federal rules in the RCRA state authorization process, EPA determines whether the state rules are equivalent to, more stringent than, or broader in scope than the federal program. Pursuant to Section 3009 of RCRA, 42 U.S.C. 6929, state programs may contain requirements that are more stringent than the federal regulations. Such more stringent requirements can be federally authorized and, once authorized, become federally enforceable. Although the statute does not prevent states from adopting regulations that are broader in scope than the federal program, states cannot receive federal authorization for such regulations, and they are not federally enforceable.

More Stringent Rules

EPA considers the following state requirements to be more stringent than the federal requirements:

• 35 IAC 722.122 and 722.123(a)(4), because Illinois requires more manifest copies than the federal rules. In 35 IAC 724.213(d)(3), Illinois adds requirements to the contingent corrective measures plan found in 40 CFR 264.113(e)(4)(i).

• 35 IAC 722.141, 724.175, and 725.175, because Illinois requires an annual report instead of the biennial report required in 40 CFR 262.22, 264.75, and 265.75.

• 35 IAC 724.156(i), because Illinois has added this provision to facilitate state notification.

• 35 IAC 725.245, because Illinois does not allow the extension of time to submit the financial test and corporate guarantee documents to the agency as federally allowed in 40 CFR 265.145(e)(4).

• 35 IAC 725.414, because Illinois prohibits all liquids in landfills; whereas the federal rules allow for exceptions in 40 CFR 265.314(f)(1) and (2).

• 35 IAC Part 729, because Illinois prohibits disposal of certain hazardous wastes in landfills. This part has no directly equivalent federal part, but it is a counterpart of the land ban regulations at 40 CFR part 268 and the landfill requirements at 40 CFR parts 264 and 265.

• 35 IAC 728.106(e), because Illinois requires at least a 90-day notice when a facility wants to make changes to unit design; whereas EPA in 40 CFR 268.6(e) only requires a 30-day notice.

• 35 IAC 703.271(e), because Illinois adds some additional cases where a permit must be modified.

These requirements would become part of Illinois' authorized program and would be federally enforceable.

Broader in Scope Rules

EPA also considers the following state requirements to go beyond the scope of the federal program:

• 35 IAC 721.103(g), because Illinois does not allow the exemption allowed in the federal rules at 40 CFR 261.3(g)(4), for certain mixtures.

• 35 IAC 739.146, because Illinois adds subsection (a)(6) which covers special waste (35 IAC Part 808) not regulated in the RCRA subtitle C program.

• 35 IAC 739.146(a)(6), 739.156(a)(7), 739.165(a)(7), and 739.174(a)(7), because Illinois has added information requirements for special wastes.

Broader-in-scope requirements do not become part of the authorized program and EPA cannot enforce them. Although regulated entities must comply with these requirements in accordance with state law, they are not RCRA requirements.

Nondelegable Rules

EPA cannot authorize the federal requirements at 40 CFR 260.21, 268.5, 268.6, 268.42(b), and 268.44. Although Illinois has adopted these requirements verbatim from the federal regulations at 35 IAC 720.121, 728.105, 728.106, 728.142(b), and 728.144, EPA would continue to implement the federal requirements.

Universal Waste Lamps Rules Not Authorized

Illinois allows Lamp Crushing under its current version of the Universal Waste Rule (35 IAC 733.105, 733.113(d), 733.133(d), and 733.134(e)), and has not applied for authorization of the Universal Waste Lamps Rule. In the future, EPA will determine whether to prohibit crushing of lamps, or decide under what conditions lamp crushing may be permitted. Until the issue is resolved, no state that allows crushing may be authorized for the Universal Waste Lamps rule, and the Illinois version of the Universal Waste Lamps Rule is not part of the Illinois authorized program.

H. Who handles permits after the final authorization takes effect?

When the final authorization takes effect, Illinois will issue permits for all the provisions for which it is authorized and will administer the permits it issues. EPA will continue to administer any RCRA hazardous waste permits or portions of permits which EPA issues prior to the effective date of the proposed authorization until they expire or are terminated. EPA will not issue any new permits or new portions of permits for the provisions listed in the Table above after the effective date of the authorization. EPA will continue to implement and issue permits for HSWA requirements for which Illinois is not yet authorized. EPA has the authority to enforce state-issued permits after the State is authorized.

I. How does proportionate share liability affect Illinois' RCRA program?

Illinois' RCRA authorities are not impacted by the proportionate share liability (PSL) provision of the Illinois Environmental Protection Act, 415 ILCS 5/58.9(a)(1). Section 58.9(a)(1) provides, in pertinent part:

Notwithstanding any other provisions of this Act to the contrary, . . . in no event may the Agency, the State of Illinois, or any person bring an action pursuant to this Act or the Groundwater Protection Act to require any person to conduct remedial action or to seek recovery of costs for remedial activity conducted by the State of Illinois or any person beyond the remediation of releases of regulated substances that may be attributed to being proximately caused by such person's act of omission or beyond such person's proportionate degree of responsibility for costs of the remedial action of releases of regulated substances that were proximately caused or contributed to by 2 or more persons.

Section 58.9 is part of Title XVII (Site Remediation Program) of the Illinois Environmental Protection Act. Title XVII does not apply to a particular site if “. . . (ii) the site is a treatment, storage, or disposal site for which a permit has been issued, or that is subject to closure requirements under federal or state solid or hazardous waste laws” (415 ILCS 5/58.1(a)(2)(ii)). Hazardous waste treatment, storage, and disposal facilities under Subtitle C of RCRA fall within the exclusion at Section 58.1(a)(2)(ii). These facilities are subject to closure and post-closure care requirements under the Act (415 ILCS 5/22.17) and Illinois program rules that are identical in substance to federal rules at 40 CFR part 264 (35 IAC 724). The Illinois Appellate Court has held that the PSL does not apply to sites that are outside the scope of Title XVII. People of the State of Illinois v. State Oil, 822 NE. 2d 876 (Ill. App. 2004). Therefore, the exclusion at Section 58.1(a)(2)(ii) renders Title XVII, including Section 58.9, inapplicable to sites upon which RCRA regulated facilities are located. Based on this exclusion, and as indicated by the Illinois Attorney General in the Attorney General Statement included in the State's October 19, 2015 final program revision application, the PSL provision does not impact the adequacy of Illinois' RCRA authorities.

J. What is codification and is EPA codifying Illinois' hazardous waste program as authorized in this rule?

Codification is the process of placing citations and references to the state's statutes and regulations that comprise the state's authorized hazardous waste program into the Code of Federal Regulations. EPA does this by adding those citations and references to the authorized state rules in 40 CFR part 272. EPA previously codified Illinois' authorized program in effect as of June 3, 1991, at 40 CFR part 272, subpart O (See 57 FR 3722, January 31, 1992). EPA is not proposing to amend the codification of the authorization of Illinois' changes at this time. However, EPA reserves the ability to amend 40 CFR part 272, subpart O for the authorization of Illinois' program at a later date.

K. Statutory and Executive Order Reviews

The Office of Management and Budget (OMB) has exempted this action from the requirements of Executive Order 12866 (58 FR 51735, October 4, 1993) and 13563 (76 FR 3821, January 21, 2011). This action proposes to authorize state requirements for the purpose of RCRA section 3006 and imposes no additional requirements beyond those imposed by state law. Therefore, this action is not subject to review by OMB. This action is not an Executive Order 13771 (82 FR 9339, February 3, 2017) regulatory action because actions such as today's proposed authorization of Illinois' revised hazardous waste program under RCRA are exempted under Executive Order 12866. Accordingly, I certify that this action will not have a significant economic impact on a substantial number of small entities under the Regulatory Flexibility Act (5 U.S.C. 601 et seq.). Because this action proposes to authorize pre-existing requirements under state law and does not impose any additional enforceable duty beyond that required by state law, it does not contain any unfunded mandate or significantly or uniquely affect small governments, as described in the Unfunded Mandates Reform Act of 1995 (2 U.S.C. 1531-1538). For the same reason, this action also does not significantly or uniquely affect the communities of tribal governments, as specified by Executive Order 13175 (65 FR 67249, November 9, 2000). This action will not have substantial direct effects on the states, on the relationship between the national government and the states, or on the distribution of power and responsibilities among the various levels of government, as specified in Executive Order 13132 (64 FR 43255, August 10, 1999), because it merely proposes to authorize state requirements as part of the state RCRA hazardous waste program without altering the relationship or the distribution of power and responsibilities established by RCRA. This action also is not subject to Executive Order 13045 (62 FR 19885, April 23, 1997), because it is not economically significant, and it does not make decisions based on environmental health or safety risks. This action is not subject to Executive Order 13211, “Actions Concerning Regulations That Significantly Affect Energy Supply, Distribution, or Use” (66 FR 28355, May 22, 2001) because it is not a significant regulatory action under Executive Order 12866.

Under RCRA section 3006(b), EPA grants a state's application for authorization as long as the state meets the criteria required by RCRA. It would thus be inconsistent with applicable law for EPA, when it reviews a state authorization application, to require the use of any particular voluntary consensus standard in place of another standard that otherwise satisfies the requirements of RCRA. Thus, the requirements of section 12(d) of the National Technology Transfer and Advancement Act of 1995 (15 U.S.C. 272 note) do not apply. As required by section 3 of Executive Order 12988 (61 FR 4729, February 7, 1996), in proposing this rule, EPA has taken the necessary steps to eliminate drafting errors and ambiguity, minimize potential litigation, and provide a clear legal standard for affected conduct. EPA has complied with Executive Order 12630 (53 FR 8859, March 15, 1988) by examining the takings implications of this action in accordance with the “Attorney General's Supplemental Guidelines for the Evaluation of Risk and Avoidance of Unanticipated Takings” issued under the executive order. This action does not impose an information collection burden under the provisions of the Paperwork Reduction Act of 1995 (44 U.S.C. 3501 et seq.). “Burden” is defined at 5 CFR 1320.3(b). Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States. Because this action proposes authorization of pre-existing state rules which are at least equivalent to, and no less stringent than existing federal requirements, and imposes no additional requirements beyond those imposed by state law, and there are no anticipated significant adverse human health or environmental effects, this proposed rule is not subject to Executive Order 12898.

List of Subjects in 40 CFR Part 271

Environmental protection, Administrative practice and procedure, Confidential business information, Hazardous materials transportation, Hazardous waste, Indians lands, Intergovernmental relations, Penalties, Reporting and recordkeeping requirement.

Authority: This action is issued under the authority of Sections 2002(a), 3006 and 7004(b) of the Solid Waste Disposal Act, as amended, 42 U.S.C. 6912(a), 6926, 6974(b). Dated: July 9, 2020.

Kurt Thiede,
Regional Administrator, Region 5.

[FR Doc. 2020-15219 Filed 7-29-20; 8:45 am]

BILLING CODE 6560-50-P